DEPARTMENT OF TRANSPORTATION

National Highway Traffic Safety Administration

[U.S. DOT Docket No. NHTSA-2014-0050]

Reports, Forms, and Recordkeeping Requirements

AGENCY: National Highway Traffic Safety Administration (NHTSA), U.S. Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before July 8, 2014.

ADDRESSES: You may submit comments, identified by the docket number in the heading of this document, by any of the following methods:

• Federal Rulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Glaceria Mason, Marketing Specialist, Office of Communications and Consumer Information (NPO-520), National Highway Traffic Safety Administration, 1200 New Jersey Ave SE., W52-211, Washington, DC 20590. Glaceria Mason's phone number is 202-366-5876 and her email address is Glaceria.Mason@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: Drunk Driver Segmentation Research

Requested Expiration Date of Approval: Three years from approval date.

Abstract: The National Highway Traffic Safety Administration (NHTSA) was established by the Highway Safety Act of 1970 (23 U.S.C. 101) to carry out a Congressional mandate to reduce the mounting number of deaths, injuries, and economic losses resulting from motor vehicle crashes on the Nation's highways. In support of this mission, NHTSA proposes to conduct an email survey among 2,000 licensed drivers who self-report having operated a motor vehicle or motorcycle (1,500 motor vehicle drivers and 500 motorcycle riders) after drinking amounts of alcohol that (in most circumstances) would render them legally drunk. (Note: for brevity, “drivers” and “driving” will refer to both motor vehicle and motorcycle operators in the remaining sections of this document). The survey will request information about their drunk driving behavior, rationale for that behavior, context details surrounding the behavior, and opinions about drunk driving enforcement, sanctions and other relevant issues. The findings will then be analyzed to generate descriptions of various segments of at-risk drinker/drivers that are based on common demographics, lifestyle traits, drinking contexts and opinions. By having these segments delineated, NHTSA's communications efforts to help curb drunk driving will be more focused, more relevant to the intended audience, and more cost-effective.

Summary of the Collection of Information: In this collection of information, NHTSA is seeking to understand useful and relevant characteristics (demography, lifestyle traits, drinking habits, environmental factors, and opinions/perceptions of how drunk driving is justified and enforcement of drunk driving laws) among people at high risk of driving drunk. Furthermore, once data are collected, cluster analyses will be applied to determine segments in which these individuals can be assigned based on common traits and opinions. By generating such segments, NHTSA can more effectively target meaningful messages to key segments with the goal of curbing drunk driving incidences, and therefore curbing the number of fatalities related to drunk driving.

Description of the Need for the Information and the Proposed Use of the Information: NHTSA has successfully conducted at-risk drunk driving segmentation studies previously; and by having these segments, NHTSA and state partners have been able to use marketing communications “best practices” to target the intended population(s) in communications efforts. However, no such study and segmentation analysis have been conducted since 2007. Since that time, population demography has changed, many state laws have changed as well as attitudes about enforcement of the laws, and the media landscape—due to rapid-pace development of digital-based media—has changed. As such, a segmentation study is needed to better shape and tailor the messaging and media strategies and tactics for addressing drunk driving. After the data collection and segmentation analysis is completed, NHTSA's Office of Communications and Consumer Information will be able to apply the segmentation to its planning and implementations of social norming and enforcement campaigns directed at people at high risk of driving drunk. Additionally, NHTSA will make the data and segmentations available to state partners, who can then complement and/or supplement NHTSA's national communications efforts.

Affected Public: NHTSA will conduct a national email survey among people in the targeted age cohort of adults 21-54. Through a provider of a national database of people in this age group who have previously “opted-in” to receive and respond to email research surveys, a brief series of screening questions will be posed to determine respondents who self-report drinking behavior prior to driving, and contingent on their answers, determine which individuals have driven and/or are apt to drive drunk After the screening, those individuals will be offered the complete survey, which is projected to take up to 20 minutes to complete. Ultimately, NHTSA will seek a total of 2,000 completed surveys. Participation by all respondents will be voluntary and anonymous and respondents will receive a token incentive for their participation. Such incentives are set and administered by the sample provider, and they sometimes take the form of cash in amounts that typically range from $3 to $6 per person; other sample providers' incentives take the form of points which respondents accumulate and trade for merchandise and/or cash.

Estimated Total Annual Burden: 2,342 hours.

Number of Respondents: Initial sample (pre-screening)—33,500. The completed survey sample (post-screening)—2,000, all of whom are among the initial sample of 33,500.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

John Donaldson,
Acting Senior Associate Administrator, Policy and Operations.

[FR Doc. 2014-10660 Filed 5-8-14; 8:45 am]

BILLING CODE 4910-59-P